ENVIRONMENTAL PROTECTION AGENCY

[EPA-HQ-OAR-2007-0265; FRL-8505-9]

Agency Information Collection Activities; Submission to OMB for Review and Approval; Comment Request; PM 2.5 National Ambient Air Quality Standard Implementation Rule; EPA ICR No. 2258.01, OMB Control No. 2060-NEW

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before January 14, 2008.

ADDRESSES: Submit your comments, referencing Docket ID No. EPA-HQ-OAR-2007-0265, to (1) EPA online using http://www.regulations.gov (our preferred method), by e-mail to a-and-r-docket@epamail.epa.gov or by mail to: EPA Docket Center, Environmental Protection Agency, Air and Radiation Docket, Mailcode 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Butch Stackhouse, Air Quality Policy Division, Office of Air Quality Planning and Standards, Mail Code C539-01, Research Triangle Park, North Carolina 27711, telephone number (919) 541-5208, facsimile number (919) 541-0824, electronic mail e-mail address: stackhouse.butch@epa.gov.

SUPPLEMENTARY INFORMATION: EPA has submitted the following ICR to OMB for review and approval according to the procedures prescribed in 5 CFR 1320.12. On April 25, 2007 (72 FR 20668), EPA sought comments on this ICR pursuant to 5 CFR 1320.8(d). EPA received no comments. Any additional comments on this ICR should be submitted to EPA and OMB within 30 days of this notice.

EPA has established a public docket for this ICR under Docket ID No. EPA-HQ-OAR-2007-0265, which is available for online viewing at http://www.regulations.gov, or in person viewing at the Air Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: PM 2.5 National Ambient Air Quality Standard Implementation Rule

ICR numbers: EPA ICR No. 2258.01, OMB Control No. 2060-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Paperwork Reduction Act requires the information found in this ICR to assess the burden of the PM 2.5 National Ambient Air Quality Standard Implementation (NAAQS) Rule as well as the periodic reporting and record keeping necessary to maintain the rule. The rule was proposed November 1, 2005 (70 FR 65983) and promulgated April 25, 2007 (72 FR 20585). The preamble to the proposed and final regulation addressed the administrative burden in general terms. The preamble to the final rule stated that an ICR would be prepared. The rule includes requirements that involve collecting information from States with areas that have been designated nonattainment for the PM 2.5 NAAQS.

The time period covered in this ICR is a three year period from April 5, 2008 through April 4, 2011. The milestones for the State or local air agency respondents will include the required SIP elements prescribed in CAA sections 110 and part D, subpart 1 of title I for Implementation plans and the requirements in the PM 2.5 NAAQS Implementation Rule (40 CFR 51.1000-51.1012). The PM2.5 SIP will contain rules and other requirements designed to achieve the NAAQS by the deadlines established under the CAA, and it also contains a demonstration that the State's requirements will in fact result in attainment. The SIP must meet the requirements in subpart 1 to adopt Reasonable Available Control Measures (RACM) and Reasonable Available Control Technology (RACT), and provide for Reasonable Further Progress (RFP) toward attainment for the period prior to the area's attainment date. However, not all of the milestones and associated burden and administrative cost estimates apply to every designated PM 2.5 nonattainment area. Areas with cleaner air quality have fewer requirements.

Burden Statement: The annual public reporting and recordkeeping burden for this collection of information is estimated to average 10,000 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State and local governments.

Estimated Number of Respondents: 21.

Frequency of Response: Annual.

Estimated Total Annual Hour Burden: 210,000.

Estimated Total Annual Cost: $11.8 million, which includes no annualized capital or O&M costs.

Changes in the Estimates: This is a new collection based on the EPA revision to the NAAQS for particulate matter on July 18, 1997, to add new standards for fine particles, using PM2.5 as the indicator. The 21 States will submit implementation plans to EPA for each nonattainment area that will need to include a number of elements, including an evaluation of reasonably available control technology (RACT) and reasonably available control measures (RACM), an attainment demonstration showing how the area will attain the standards as expeditiously as practicable, and a plan showing that the area will make reasonable further progress (RFP) from the date the area's SIP is due to its attainment date.

Dated: December 6, 2007.
Sara Hisel-McCoy,
Director, Collection Strategies Division.

[FR Doc. E7-24156 Filed 12-12-07; 8:45 am]

BILLING CODE 6560-50-P